DEPARTMENT OF COMMERCE

Minority Business Development Agency

[Docket No. 000724218-4041-08]

Solicitation of Applications for the Native American Business Development Center (NABDC) Program

AGENCY: Minority Business Development Agency, Commerce.

ACTION: Notice.

SUMMARY: The Minority Business Development Agency (MBDA) is soliciting competitive applications from organizations to operate a Native American Business Development Centers (NABDC) under its Native American Business Development Center (NABDC) Program. The NABDC geographic service area being solicited in this Notice: The States of Minnesota/Iowa. The prior solicitation for this geographic service area was unsuccessful. The anticipated start date is April 1, 2004. The total award period for awards will be two years and nine months. Funding will be provided initially for a nine-month period, and provided annually thereafter. Future funding will be at the discretion of MBDA and the Department of Commerce, and will depend upon satisfactory performance by the award recipient, availability of funds, and Agency priorities.

The NABDC Program requires project operators to deploy standardized business assistance services to the Native American business public directly, to develop a network of strategic partnerships and to provide strategic business consulting within the geographic service area. These requirements will be used to generate increased results with respect to financing and contracts awarded to Native American and minority-owned firms and thus, are a key component of this program.

DATES: The closing date for submission of applications is March 12, 2004. Completed applications must be (1) mailed (USPS Postmark) to the address below; or (2) received by MBDA no later than 5 p.m. eastern standard time.

ADDRESSES: If the application is mailed by the applicant or its representative, they must submit one signed original plus two (2) copies of the application. Completed application packages must be mailed to: Office of Business Development, Office of Executive Secretariat, HCHB, Room 5063, Minority Business Development Agency, U.S. Department of Commerce, 14th Street and Constitution Avenue, NW., Washington, DC 20230.

If the application is hand-delivered by the applicant or his/her representative, one signed original plus two (2) copies of the application must be delivered to Room 1874, which is located at Entrance 10, 15th Street, NW., between Pennsylvania and Constitution Avenues.

FOR FURTHER INFORMATION CONTACT: For a copy of the full Notice and/or an application package, contact the specified MBDA National Enterprise Center (NEC) for the geographic service area in which the project will be located (see Geographic Service Areas), or via MBDA's Minority Business Internet Portal at http://www.mbda.gov.

SUPPLEMENTARY INFORMATION: The prior solicitation for operators for the NABDC in the State of Minnesota published in the Federal Register on August 29, 2003 (68 FR 51965), as amended on September 30, 2003 (68 FR 56267), was unsuccessful. MBDA has elected to re-compete this service area, expanding the service area to include the State of Iowa. The evaluation criteria and selection procedures contained in the August 29, 2003 notice are applicable to this solicitation. For a copy of the August 29, 2003 notice, please go to http://www.mbda.gov.

Electronic Access: The full Notice for the NABDC program is available via Web site http://www.mbda.gov or by contacting the program official identified above. This announcement will also be available through Grants.gov at http://www.Grants.gov.

Applicants are encouraged to submit their entire proposal electronically via the Internet and mail or hand-deliver only the pages that require original signatures by the closing date and time stated above. Applicants may submit their applications on MBDA's Web site: http://www.mbda.gov. All required forms are located at this Web address. However, the following paper forms must be submitted with original signatures in conjunction with any electronic submissions by the closing date and time stated above: (1) SF-424, Application for Federal Assistance; (2) the SF-424B, Assurances-Non-Construction Programs; (3) the SF-LLL (Rev. 7-97) (if applicable), Disclosure of Lobbying Activities; (4) Department of Commerce Form CD-346 (if applicable), Applicant for Funding Assistance; and (5) the CD-511, Certifications Regarding Debarment, Suspension and Other Responsibility Matters; Drug-Free Workplace Requirements and Lobbying.

Pre-Application Conference: A pre-application conference will be held for the NABDC project solicitation. Contact the specified MBDA NEC for the geographic service area in which the project will be located to receive further information, (see Geographic Service Areas). Picture identification is required for entrance into any Federal building. Notice of the pre-application conference will be available on MBDA's Internet Portal at http://www.mbda.gov.

Funding Availability: Approximately $120,000 will be available in FY 2004 for Federal assistance under this program.

The Financial assistance award under this program is $120,000 for the first nine months of the award and $300,000 in the second and third year of the award in Federal funding based upon Native American and minority population, the size of the market and its need for MBDA resources.

Geographic Service Areas: An operator is required to serve the Native American and minority business community throughout the states of Minnesota and Iowa. MBDA has defined the service area for this award below. To determine its geographic service areas, MBDA uses states, counties, Metropolitan Areas (MA), which comprise metropolitan statistical areas (MSA), consolidated metropolitan statistical areas (CMSA), and primary metropolitan statistical areas (PMSA) as defined by the OMB Committee on MAs http://www.whitehouse.gov/omb/bulletins and other demographic boundaries as specified herein. Service to eligible clients outside of an operator's specified service area may be requested, on a case-by-case basis, through the appropriate MBDA Regional Director and granted by the Grants Officer.

The NABDC geographic service area being solicited in this Notice is: The States of Minnesota/Iowa.

1. MBDC Application: Minnesota/Iowa NABDC.

Geographic Service Area: States of Minnesota/Iowa.

Award Number: 05-10-04004-01.

The recipient is required to have the NABDC physically located in only one of these states; however, if the operator does not have physical presence in both states, it must specify in detail how it plans to service the geographic service area. Contingent upon the availability of Federal funds, the cost of performance for the first funding period from April 1, 2004 to December 31, 2004 is estimated at $120,000. The total Federal amount is $120,000. The minimum cost share of 15% is not required.

Contingent upon the availability of Federal funds, the cost of performance for each of two (2) remaining 12-month funding periods from January 1, 2005 to December 31, 2006, is estimated at $300,000. The total Federal amount is $300,000. The minimum cost share of 15% is not required.

Pre-Application Conference: For the exact date, time and place, contact the Chicago National Enterprise Center at (312) 353-0182 or visit MBDA's Web site at http://www.mbda.gov.

For Further Information and a copy of the application kit, contact Eric Dobyne, Regional Director at the number listed above.

Authority: Executive Order 11625 and 15 U.S.C. 1512.

Catalog of Federal Domestic Assistance (CFDA): 11.801 Native Business Development Center (NABDC) Program.

Eligibility Criteria: For-profit entities (including sole-proprietorships, partnerships, and corporations), and non-profit organizations, state and local government entities, American Indian Tribes, and educational institutions are eligible to operate NABDCs.

Matching Requirements: None.

Intergovernmental Review: Applications under this program are not subject to Executive Order 12372, “Intergovernmental Review of Federal Programs.”

Limitation of Liability: In no event will MBDA or the Department of Commerce be responsible for proposal preparation costs if these programs fail to receive funding or are cancelled because of other agency priorities. Publication of this announcement does not oblige MBDA or the Department of Commerce to award any specific project or to obligate any available funds.

Department of Commerce Pre-Award Notification Requirements for Grants and Cooperative Agreements: The Department of Commerce Pre-Award Notification Requirements for Grants and Cooperative Agreements contained in the Federal Register notice of October 1, 2001 (66 FR 49917), as amended by the Federal Register notice published on October 30, 2002 (67 FR 66109), are applicable to this solicitation.

Executive Order 12866: This notice has been determined to be not significant for purposes of E.O. 12866.

Administrative Procedure Act/Regulatory Flexibility Act: Prior notice and an opportunity for public comment are not required by the Administrative Procedure Act for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and has not been prepared.

Paperwork Reduction Act: This document contains collection-of-information requirements subject to the Paperwork Reduction Act (PRA). The use of Standard Forms 424, 424A, 424B, CD 346, and SF-LLL have been approved by OMB under the respective control numbers 0348-0043, 0348-0044, 0348-0040, 0605-0001, and 0348-0046. Notwithstanding any other provision of law, no person is required to respond to, nor shall any person be subject to a penalty for failure to comply with a collection of information subject to the Paperwork Reduction Act unless that collection displays a currently valid OMB Control Number.

Ronald N. Langston,
National Director, Minority Business Development Agency.

[FR Doc. 04-2984 Filed 2-10-04; 8:45 am]

BILLING CODE 3510-21-P